NATIONAL SCIENCE FOUNDATION

DOE/NSF Nuclear Science Advisory Committee; Notice of Meeting

In accordance with the Federal Advisory Committee Act (Pub. L. 92-463, as amended), the National Science Foundation announces the following meeting.

Name: DOE/NSF Nuclear Science Advisory Committee (1176).

Date and Time: Thursday, Nov. 29, 2001; 8 a.m.-6 p.m. and Friday, Nov. 2001; 8 a.m.-6 p.m.

Place: Holiday Inn Capitol, 550 C Street SW., Washington, DC 20024.

Type of Meeting: Open.

Contact Person: Dr. Bradley D. Keister, Program Director for Nuclear Physics, National Science Foundation, 4201 Wilson Blvd., Arlington, VA 22230. Telephone: (703) 292-7380.

Purpose of Meeting: To provide advice and recommendations concerning the scientific programs of the NSF and DOE in the area of basic nuclear physics research.

Agenda:

November 29, 2001

Introduction (J. Symons)

Report from DOE

Report from NSF

Congressional Perspective (D. Goldston)

OSTP Perspective (J. Marburger)

Presentation of Low Energy Sub-Committee Report (B. Filippone)

Discussion of Low Energy Review Report

Public Comment

NNSA Perspective on RIA (M Kreisler)

Discussion

November 30, 2001

Discussion of NSAC response to Low Energy Sub-Committee

Continued Discussion of Long Range Plan Transmittal

Dated: November 7, 2001.
Susanne Bolton,
Committee Management Officer.

[FR Doc. 01-28357 Filed 11-9-01; 8:45 am]

BILLING CODE 7555-01-M